DEPARTMENT OF HEALTH & HUMAN SERVICES

Health Resources and Services Administration

State System Development Initiative (SSDI) Grant Program; Single-Case Deviation From Competition Requirements

AGENCY: Health Resources and Services Administration (HRSA), Department of Health and Human Services (HHS).

ACTION: Notice of Single-Case Deviation from Competition Requirements for the Maternal and Child Health (MCH) Bureau's States System Development Initiative (SSDI) Grant.

SUMMARY: HRSA will be issuing a non-competitive program expansion supplement for one State SSDI Grant. Approximately $82,332 in supplemental funding will be made available in the form of a grant to the Department of Health Care Services, Sacramento, California, Grant Number H18MC24474, during the budget period of December 1, 2012, through November 30, 2013.

The SSDI Grant program, CFDA No. 93.110, is authorized by Title V, Social Security Act, Section 501(a)(2); as amended (42 U.S.C. 701(a)(2)).

The SSDI Grant program was developed to complement the Title V MCH Services Block Grant program by assisting state MCH and Children with Special Health Care Needs (CSHCN) programs in the building of state data capacity and infrastructure that support comprehensive, community-based systems of care for all children and their families. SSDI grants to states are intended to not only advance and strengthen data capacity by directing grant resources towards Title V MCH Block Grant program's Health Systems Capacity Indicator (HSCI) #09A (i.e., the ability of states to assure that the MCH programs and Title V agency have access to policy and program relevant information and data), but also to move states forward in developing improved capacity for reporting standardized and quality data that is timely.

SUPPLEMENTARY INFORMATION:

Intended Recipient of the Award: Department of Health Care Services, Sacramento, California.

Amount of the Non-Competitive Award: $82,332.

CFDA Number: 93.110.

Current Project Period: 05/01/2012-11/30/2014.

Period of Supplemental Funding: 12/01/2012-11/30/2013.

Authority: Title V, Social Security Act, Section 501(a)(2); as amended (42 U.S.C. 701).

Justification: Consistent with its legislative purpose to improve the health of all mothers and children, a key objective of the Title V MCH Block Grant program is to reduce maternal mortality. Due to small numbers for many states, maternal mortality cannot be universally tracked whereas severe, life-threatening maternal morbidity is at least 100 times as common and may be tracked annually for all states. Although a severe maternal morbidity index has been developed using administrative hospital discharge data, a validation in comparison to medical records is needed to determine whether its accuracy is sufficient for use as a national performance measure reported at the state level.

The California Title V MCH program has been a leader in assessing maternal mortality and conducting maternal mortality reviews. In particular, the California Maternal Quality Care Collaborative (CMQCC) is the oldest and largest maternity care collaborative in the country with a longstanding track record of analyzing maternal health data and developing metrics to improve clinical practice and prevent maternal death and injury. The promising work that the California Title V program is doing stands to benefit not only the state but all state MCH programs in promoting a better understanding of the causes of maternal mortality/morbidity and in offering potential solutions. Based on their prior work, established data networks, and sheer size of their birth cohort, the State of California is uniquely qualified to evaluate and make recommendations for a state-level severe maternal morbidity measure.

FOR FURTHER INFORMATION CONTACT: Scott Snyder, MPH, Division of State and Community Health, Maternal and Child Health Bureau, Health Resources and Services Administration, 5600 Fishers Lane, Room 18-31, Rockville, Maryland 20857; ssnyder@hrsa.gov.

Grantee/organization name | Grant No. | State | FY 2013 authorized funding level | FY 2013 estimated supplemental funding
Department of Health Care Services | H18MC24474 | CA | $100,000 | $82,332

Dated: September 17, 2013.
Mary K. Wakefield,
Administrator.

[FR Doc. 2013-23074 Filed 9-23-13; 8:45 am]

BILLING CODE 4165-15-P